DEPARTMENT OF JUSTICE

Antitrust Division

Notice Pursuant to the National Cooperative Research and Production Act of 1993—Pet Care Products Task Force

Notice is hereby given that, on October 18, 2019, pursuant to Section 6(a) of the National Cooperative Research and Production Act of 1993, 15 U.S.C. 4301 et seq. (“the Act”), Pet Care Products Task Force (“PCPTF”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Bayer Health Care, LLC, Animal Health Division, Shawnee, KS; Central Garden & Pet Company, Schaumburg, IL; Elanco U.S. Inc., Greenfield, IN; The Hartz Mountain Corporation, Secaucus, NJ; and Pet IQ, Omaha, NE. The general area of PCPTF's planned activity is to develop proposed Standard Operating Procedures (“SOPs”) to amend or replace the current United States Environmental Protection Agency (“EPA”) SOP developed for pet care products in 2012 by (i) reviewing and analyzing existing pet care product exposure assessment methods from EPA, Health Canada Pest Management Regulatory Agency (“PMRA”) and European Medicines Agency (“EMA”); (ii) developing a scoping document that outlines options available for an exposure assessment method, including advantages and disadvantages for each option, and, where necessary, any related data refinement costs for each option; and (iii) meeting with the EPA Office of Pesticide Products to present options for the revised SOPS and to solicit feedback.

Suzanne Morris,
Chief, Premerger and Division Statistics Unit Antitrust Division.

[FR Doc. 2019-24485 Filed 11-8-19; 8:45 am]

BILLING CODE 4410-11-P